DEPARTMENT OF ENERGY

Office of Fossil Energy

[FE Docket No. 03-59-NG, 05-03-NG, 05-02-NG, 97-09-NG, 05-04-LNG, 05-05-NG, 05-07-NG, 05-06-NG, 05-09-NG, 04-101-NG, 05-10-LNG, and 05-08-NG]

Fusi LLC, Fortuna (US) L.P., Sprague Energy Corp., USGEN Fuel Services, Inc., Nitogo Management, Inc., Petro-Canada Hydrocarbons Inc., Chehalis Power Generating, Limited Partnership, Powerex Corp., National Fuel Gas Distribution Corporation, National Fuel Gas Distribution Corporation, LNG Partners, LLC, and Total Gas & Power North America, Inc.; Orders Granting Authority To Import and Export Natural Gas, Including the Import of Liquefied Natural Gas

AGENCY: Office of Fossil Energy, DOE.

ACTION: Notice of Orders.

SUMMARY: The Office of Fossil Energy (FE) of the Department of Energy gives notice that during February 2005, it issued Orders granting authority to import and export natural gas, including the import of liquefied natural gas. These Orders are summarized in the attached appendix and may be found on the FE Web site at http://www.fe.doe.gov (select gas regulation). They are also available for inspection and copying in the Office of Natural Gas Regulatory Activities, Docket Room 3E-033, Forrestal Building, 1000 Independence Avenue, SW., Washington, DC 20585, (202) 586-9478. The Docket Room is open between the hours of 8 a.m. and 4:30 p.m., Monday through Friday, except Federal holidays.

Issued in Washington, DC, on March 9, 2005.
R. F. Corbin,
Manager, Natural Gas Regulatory Activities, Office of Oil and as Global Security and Supply, Office of Fossil Energy.

Appendix—Orders Granting Import/Export Authorizations

Date issued | Importer/exporter FE docket No. | Import volume | Export volume | Comments
2-1-05 | FUSI LLC, 03-59-NG |  |  | Vacates blanket import and export authority.
2-1-05 | Fortuna (US) L.P., 05-03-NG | 75 Bcf |  | Import and export a combined total of natural gas from and to Canada, beginning on December 21, 2004, and extending through December 20, 2006.
2-3-05 | Sprague Energy Corp., 05-02-NG | 50 Bcf |  | Import natural gas from Canada, beginning on January 1, 2005 and extending through December 31, 2006.
2-3-05 | USGEN Fuel Services, Inc., 97-09-NG |  |  | Vacates blanket import authority.
2-8-05 | Nitogo Management, Inc., 05-04-LNG | 400 Bcf |  | Import LNG from Nigeria, beginning on February 8, 2005 and extending through February 7, 2007.
2-8-05 | Petro-Canada Hydrocarbons Inc., 05-05-NG | 300 Bcf |  | Import natural gas from Canada, beginning on March 4, 2005, and extending through March 3, 2007.
2-17-05 | Chehalis Power Generating Limited Partnership, 05-07-NG | 65.7 Bcf |  | Import natural gas from Canada, beginning on January 1, 2005, and extending through December 31, 2006.
2-22-05 | Powerex Corp., 05-06-NG | 60 Bcf |  | Import and export natural gas from and to Canada and Mexico, and import LNG from other international sources, beginning on March 1, 2005, and extending through February 28, 2007.
2-28-05 | National Fuel Gas Distribution Corporation, 05-09-NG | 19.964 Bcf |  | Import and export a combined total of natural gas from and to Canada, and import LNG from other international sources, beginning on April 1, 2005, and extending through March 31, 2007.
2-28-05 | National Fuel Gas Distribution Corporation, 04-101-NG |  |  | Vacates blanket import and export authority.
2-28-05 | LNG Partners, LLC, 05-10-LNG | 72 Bcf |  | Import LNG from various international sources, beginning on February 28, 2005, and extending through February 27, 2007.
2-28-05 | Total Gas & Power North America, Inc., 05-08-NG | 100 Bcf, 100 Bcf, 365 Bcf | 100 Bcf, 100 Bcf | Import and export natural gas from and to Canada and Mexico, and import LNG from various other sources, beginning on February 22, 2005, and extending through February 21, 2007.

[FR Doc. 05-5728 Filed 3-22-05; 8:45 am]

BILLING CODE 6450-01-P